DEPARTMENT OF COMMERCE

International Trade Administration

[A-533-861]

Certain Polyethylene Terephthalate Resin From India: Rescission of Antidumping Duty Administrative Review; 2015/2017

AGENCY: Enforcement and Compliance, International Trade Administration, Department of Commerce.

SUMMARY: The Department of Commerce (the Department) is rescinding the administrative review of the antidumping duty order on certain polyethylene terephthalate resin from India, based on the timely withdrawal of request for review. The period of review (POR) is October 15, 2015, through April 30, 2017.

DATES: Applicable September 18, 2017.

FOR FURTHER INFORMATION CONTACT: Michael J. Heaney, AD/CVD Operations, Office VI, Enforcement and Compliance, International Trade Administration, U.S. Department of Commerce, 1401 Constitution Avenue NW., Washington, DC 20230; telephone: (202) 482-4475.

SUPPLEMENTARY INFORMATION:

Background

On May 1, 2017, the Department published in the Federal Register a notice of opportunity to request an administrative review of the antidumping duty order ¹ of certain polyethylene terephthalate resin from India for the POR October 15, 2015, through April 30, 2017.² On May 31, 2017, the Department received a timely request for an administrative review from Ester Industries Ltd. (Ester), in accordance with section 751(a) of the Tariff Act of 1930, as amended (the Act), and 19 CFR 351.213(b).³ No other parties requested an administrative review. Pursuant to Ester's review request and in accordance with 19 CFR 351.221(c)(1)(i), on July 6, 2017, the Department published in the Federal Register a notice of initiation of an administrative review covering Ester.⁴ However, on July 17, 2017, Ester withdrew its request for an administrative review.⁵

¹ See Certain Polyethylene Terephthalate Resin from Canada, the People's Republic of China, India, and the Sultanate of Oman: Amended Final Affirmative Antidumping Determination (Sultanate of Oman) and Antidumping Duty Orders, 81 FR 27979 (May 6, 2016).

² See Antidumping or Countervailing Duty Order, Finding, or Suspended Investigation; Opportunity to Request Administrative Review, 82 FR 20315 (May 1, 2017).

³ See Ester letter to Secretary of Commerce, “Ester Industries Ltd: Request for Administrative Review of Anti-Dumping Duty Administrative Review,” dated May 31, 2017.

⁴ See Initiation of Antidumping and Countervailing Duty Administrative Reviews, 82 FR 31292 (July 6, 2017).

⁵ See Ester letter to Secretary of Commerce, “Polyethylene Terephthalate Resin from India: Withdrawal Request for Review—Ester Industries Ltd,” dated July 17, 2017.

Rescission of Review

Pursuant to 19 CFR 351.213(d)(1), the Department will rescind an administrative review, in whole or in part, if the party, or parties, that requested a review withdraws the requests within 90 days of the publication of the notice of initiation of the requested review. As noted above, Ester withdrew its request for review by the 90-day deadline, and no other party requested an administrative review of this order. Therefore, in response to the timely withdrawal of the request for review, and in accordance with 19 CFR 351.213(d)(1), the Department is rescinding this review.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appraisement instructions to CBP 15 days after the publication of this notice in the Federal Register.

Notification to Importers

This notice serves as a final reminder to importers of their responsibility under 19 CFR 351.402(f)(2) to file a certificate regarding the reimbursement of antidumping duties prior to liquidation of the relevant entries during this POR. Failure to comply with this requirement could result in the Department's presumption that reimbursement of antidumping duties occurred and the subsequent assessment of double antidumping duties.

Notification Regarding Administrative Protective Order

This notice also serves as the only reminder to parties subject to administrative protective order (APO) of their responsibility concerning the return or destruction of proprietary information disclosed under APO in accordance with 19 CFR 351.305(a)(3). Timely written notification of the return or destruction of APO materials, or conversion to judicial protective order, is hereby requested. Failure to comply with the regulations and terms of an APO is a sanctionable violation.

This notice is published in accordance with sections 751(a)(1) and 777(i)(1) of the Act, and 19 CFR 351.213(d)(4).

Dated: September 12, 2017.
James Maeder,
Senior Director performing the duties of Deputy Assistant Secretary for Antidumping and Countervailing Duty Operations.

[FR Doc. 2017-19772 Filed 9-15-17; 8:45 am]

BILLING CODE 3510-DS-P